DEPARTMENT OF COMMERCE

National Oceanic and Atmospheric Administration

50 CFR Part 622

[Docket No. 230726-0175]

RIN 0648-BM13

Fisheries of the Caribbean, Gulf of Mexico, and South Atlantic; Reef Fish Resources of the Gulf of Mexico; Commercial Trip Limit for Gray Triggerfish

Correction

In Rule Document 2023-16229, appearing on pages 50063-50065, in the issue of Tuesday, August 1, 2023, make the following correction:

On page 50063, in the third column, in the heading, on the thirty-first line, under the heading DATES, the text reading “September 11, 2023” should read “September 1, 2023”.

[FR Doc. C1-2023-16229 Filed 8-15-23; 4:15 pm]

BILLING CODE 0099-10-D